DEPARTMENT OF COMMERCE

International Trade Administration

(C-570-953)

Narrow Woven Ribbons With Woven Selvedge From the People's Republic of China: Postponement of Preliminary Determination in the Countervailing Duty Investigation

AGENCY: Import Administration, International Trade Administration, Department of Commerce.

EFFECTIVE DATE: September 14, 2009.

FOR FURTHER INFORMATION CONTACT: Scott Holland or Shelly Atkinson, AD/CVD Operations, Import Administration, International Trade Administration, U.S. Department of Commerce, 14th Street and Constitution Avenue, NW, Washington, DC 20230; telephone: (202) 482-1279 and (202) 482-0166, respectively.

SUPPLEMENTARY INFORMATION:

Background

On August 6, 2009, the Department of Commerce (the “Department”) initiated an investigation of narrow woven ribbons with woven selvedge from the People's Republic of China (“PRC”). See Narrow Woven Ribbons With Woven Selvedge From the People's Republic of China: Initiation of Countervailing Duty Investigation, 74 FR 39298 (August 6, 2009). Currently, the preliminary determination is due no later than October 2, 2009.

Postponement of Due Date for Preliminary Determination

Under section 703(c)(1)(B) of the Tariff Act of 1930, as amended (the “Act”), the Department may extend the period for reaching a preliminary determination in a countervailing duty investigation until no later than the 130th day after the date on which the investigation is initiated, if the Department determines that the parties are cooperating and the case is extraordinarily complicated. The Department finds that the instant case is extraordinarily complicated by reason of the number and complexity of the alleged countervailable subsidy practices, the need to determine the extent to which particular countervailable subsidies are used by individual manufacturers, producers, and exporters, and the number of firms whose activities must be investigated. Accordingly, we are fully extending the due date for the preliminary determination to no later than 130 days after the day on which the investigation was initiated (i.e., December 6, 2009). As December 6, 2009, is a Sunday, we will issue the preliminary determination no later than the next business day (i.e., December 7, 2009).

This notice is issued and published pursuant to section 703(c)(2) of the Act and 19 CFR 351.205(f)(1).

Dated: September 8, 2009.
Ronald K. Lorentzen,
Acting Assistant Secretary for Import Administration.

[FR Doc. E9-22046 Filed 9-11-04; 8:45 am]

BILLING CODE 3510-DS-S